DEPARTMENT OF TRANSPORTATION

Federal Highway Administration

Environmental Impact Statement: Hays and Caldwell Counties, State of Texas

AGENCY: Federal Highway Administration (FHWA), DOT.

ACTION: Notice of Intent (NOI) to rescind NOI of November 17, 1987.

SUMMARY: The FHWA is issuing this notice to advise the public that they are rescinding the NOI to prepare an Environmental Impact Statement (EIS) on a proposal to construct a loop designated as Farm-to-Market (FM) 110 Loop around the City of San Marcos in Hays and Caldwell Counties, Texas.

FOR FURTHER INFORMATION CONTACT: Salvador Deocampo, District Engineer, FHWA, Texas Division Office, 300 E. 8th Street, Suite 826, Austin, Texas, 78701, Telephone: (512) 536-5950.

SUPPLEMENTARY INFORMATION: The FHWA, in cooperation with the Texas Department of Transportation, is rescinding the NOI published in the Federal Register on November 17, 1987, to prepare an EIS for a proposed FM 110 Loop roadway in Hays and Caldwell Counties, Texas. The project limits, study area and the type of environmental documentation for the proposed FM 110 Loop have changed. In 1994, FM 110 was evaluated as a full-circle loop roadway in a Preliminary Draft Environmental Impact Statement (PDEIS), which was never officially approved by FHWA or distributed for agency or public review and comment. Since the preparation of the PDEIS, the western portion of the FM 110 Loop project has been eliminated from further consideration. However, based on the information gathered from the PDEIS, enough environmental analysis was developed to assess any potential impacts associated with the proposed FM 110 portion located east of IH-35. Therefore, based on that information, and since the scope of the original FM 110 has been decreased, an Environmental Assessment (EA) for only the portion of FM 110 east of IH-35 will be prepared instead of an EIS.

(Catalog of Federal Domestic Assistance Program Number 20.205, Highway Research, Planning, and Construction. The regulations implementing Executive Order 12372 regarding intergovernmental consultation on Federal programs and activities apply to this program.)
Issued on: March 11, 2004.
Salvador Deocampo,
District Engineer, Austin, Texas.

[FR Doc. 04-6314 Filed 3-19-04; 8:45 am]

BILLING CODE 4910-22-M